DEPARTMENT OF AGRICULTURE

Submission for OMB Review; Comment Request

October 24, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by November 28, 2018 will be considered. Written comments should be addressed to: Desk Officer for Agriculture, Office of Information and Regulatory Affairs, Office of Management and Budget (OMB), New Executive Office Building, 725 17th Street NW, Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Generic Clearance Social Science and Economics Data Collections on Natural Disasters and Disturbances.

OMB Control Number: 0596-NEW.

Summary of Collection: Wildfires, droughts, floods, diseases, invasive species, effects of climate change, and other natural disasters and disturbances periodically affect ecosystems, causing immediate and long-term changes. The frequency, type, duration, and intensity of disturbances shape our forests, grasslands, and other natural ecosystems and impact people's lives. Social science and economics research methods, including surveys, interviews, and focus groups, administered under this generic information collection approval will be designed to collect information from individuals/households, States, Local and Tribal Agencies and groups who are preparing for, responding to, and/or recovering from natural disasters and disturbances, including but not limited to fires, droughts, floods, hurricanes, climate change, high intensity weather systems, and invasive species infestations.

The data collection efforts initiated under this generic information approval will be broadly similar in that they will all be focused on all individuals, communities, and/or stakeholders preparing for, responding to, recovering from, and/or building resilience to natural disasters or disturbances. The justification for each individual study, in particular the rationale for populations being queried, the questions being asked, and the research methods used, will be thoroughly described in each individual information collection submission that falls under this generic clearance.

This generic information collection contains a comprehensive but not exhaustive range of questions that the individual research teams may deploy to successfully answer research questions, and the methods, sampling approaches, and data collection questions will be carefully determined based on individual, group, and site factors, and will be detailed in the individual information collections. Specific studies may propose additional questions as needed to provide a rigorous, reliable, and valid investigation of the identified knowledge gap.

Need and Use of the Information: The purpose of this collection is to collect information to enable the USDA Forest Service to understand how individuals, communities, and organizations prepare for, respond and adapt to, recover from, and build resilience to natural disturbances and disasters. Given the wide range of people affected by natural disasters and disturbances, as well as the significant impacts these disturbances have on agriculture, forestry, and rural communities providing key food and fiber sources, and the business and employment implications related to such topics, the collection of this information is of great importance to achieving our Forest Service Strategic Goal to deliver benefits to the public as well as the USDA Goal to focus on customer service.

Description of Respondents: Individuals or households; Business or other for-profit; Not-for-profit institutions; State, Local or Tribal Government.

Number of Respondents: 78,150.

Frequency of Responses: On occasion.

Total Burden Hours: 9,754.

Forest Service

Title: Generic Information Collection for Social Science and Economics Data Collections on Goods, Services, and Jobs Provided by Forests and Natural Areas.

OMB Control Number: 0596-NEW.

Summary of Collection: Across the country, forests, grasslands and other natural areas provide jobs through a range of ways, including logging, sawmills, and extraction of non-timber forest products; guiding services, hotels, restaurants, and equipment sales that support recreation; and natural area restoration and management activities, among many others. Innovative forest products such as wood-based nanotechnologies and laminated timbers are critical to the modern economies of rural and urban communities. Forests and natural areas provide important ecosystem services such as clean water and air, carbon sequestration, natural flood control, cultural services, and recreation opportunities, and influence other critical economic factors like home and land values. Furthermore, there is a significant body of research that demonstrates contact with nature can have positive impacts on human health and well-being. In addition to the products and services derived from forests, grasslands, and other natural areas, people may also value and appreciate the natural environment itself when they experience it directly. These experiences can have meaningful impacts on quality of life, sense of self, and sense of community, and play an important role in how people respond to management proposals and actions.

The information collected under this generic approval links to the delivery of high quality customer service. Because the goods, services, and experiences of forests, grasslands, and natural areas benefit every American in some way, directly or indirectly, it is imperative that the views and perspectives of as wide a range of the population as possible are included in decision making. Research under this generic information collection will assist forest and natural resources managers and other public policy makers in understanding tradeoffs and synergies, building consensus, and assuring that diverse market and non-market information is incorporated in decision-making.

The data collection efforts initiated under this generic information approval will be broadly similar in that they will all be focused on all individuals, communities, and/or stakeholders who seek or are benefited by a wide variety of services from forests and other natural areas. The justification for each individual study, in particular the rationale for populations being queried, the questions being asked, and the research methods used will be thoroughly described in each individual information collection submission that falls under this generic clearance.

This generic information collection contains a comprehensive but not exhaustive range of questions that the individual research teams may deploy to successfully answer research questions, and the methods, sampling approaches, and data collection questions will be carefully determined based on individual, group, and site factors, and will be detailed in the individual information collections. Specific studies may propose additional questions as needed to provide a rigorous, reliable, and valid investigation of the identified knowledge gap.

Need and Use of the Information: The purpose of this collection is to collect information that will help the Forest Service sustainably manage and provide guidance to others about managing the wide range of goods, services, values, and jobs derived from forests, grasslands, and other natural areas. Understanding these provisioning services is critical to managing the Nation's forests and grasslands, and other natural areas to meet the needs of American citizens and to achieving the mission of the USDA Forest Service: “to sustain the health, diversity, and productivity of the Nation's forests and grasslands to meet the needs of present and future generation.”

Central to effective policy development and management is better understanding the risks, trade-offs, synergies, and values implied by alternate decisions. Although market prices reflect social preferences and acceptable trade-offs to some degree, they clearly do not encompass all values associated with forests and other natural areas. Better and/or new means are needed to translate society's preferences into meaningful goals, objectives, and guidelines for managers to consider and incorporate into management, planning, and programming. Utilizing such data, which often cannot be quantifiable through market indicators alone, will position the Agency for greater efficiency and output measures. This effort requires a sound scientific basis and the engagement of Forest Service social science and economics researchers and varied experts.

Description of Respondents: Individuals or households; Business or other for-profit; Not-for-profit institutions; State, Local or Tribal Government.

Number of Respondents: 78,150.

Frequency of Responses: On occasion.

Total Burden Hours: 9,754.

Forest Service

Title: Generic Information Collection for Social Science and Economics Data Collections on Natural Resources Planning and Collaborative Conservation.

OMB Control Number: 0596-NEW.

Summary of Collection: The USDA Forest Service's motto is “caring for the land and serving people” and the mission is “to sustain the health, diversity, and productivity of the Nation's forests and grasslands to meet the needs of present and future generation.” This includes directly managing National Forests and providing science-based guidelines for the management of forests and other natural resources in cities and towns, as well as those under management by land trusts, neighborhood groups, states, and other entities. In order to fulfill this mission, the Agency needs an accurate understanding of the range of views and preferences held by stakeholders regarding management and conservation of forests and other natural resources. This requires a sound scientific basis and the engagement of Forest Service social science and economics researchers and experts.

The data collection efforts initiated under this generic information approval will be broadly similar in that they will all be focused on individuals and groups who are stakeholders in the conservation, management, planning, and restoration of forests and other natural resources. The justification for each individual study, in particular the rationale for populations being queried, the questions being asked, and the research methods used will be thoroughly described in each individual information collection submission that falls under this generic clearance.

This generic information collection contains a comprehensive but not exhaustive range of questions that the individual research teams may deploy to successfully answer research questions, and the methods, sampling approaches, and data collection questions will be carefully determined based on individual, group, and site factors, and will be detailed in the individual information collections. Specific studies may propose additional questions as needed to provide a rigorous, reliable, and valid investigation of the identified knowledge gap.

Need and Use of the Information: The purpose of this collection is to collect information from a wide range of stakeholders to guide the agency in conserving and managing forests and associated natural resources. The Forest Service and other public and private land managers need to collect information from a wide range of stakeholders in order to make informed decisions about natural resource conservation, restoration and management, land management amendments and planning revisions. Such stakeholders would include individuals/households, States, local and Tribal Agencies and groups who may participate and/or contribute to the National Forest Land Management Planning process. To ensure that the Forest Service can meet its statutory and regulatory responsibilities and is able to inform management of forests and other natural areas, the Forest Service seeks to collect information from people who use, live near, manage, make policies for, or otherwise have a stake in the management of forests and other natural resources.

The USDA Forest Service Research & Development Social Science Program, and others as appropriate, will conduct the necessary quality controls to ensure that each information collection and its data collection instrument conforms to the guidelines of this generic approval, and will submit each information collection request to OMB for expedited review. Each collection will clearly fit within the overall plan and scope of this generic approval and will be well defined in terms of its research methods and sample or respondent pool. Standardization of methods and content across the country, as appropriate, will help provide reliable and consistent information to land managers, policy makers, and other decision makers over time.

Description of Respondents: Individuals or households; Business or other for-profit; Not-for-profit institutions; State, Local or Tribal Government.

Number of Respondents: 104,200.

Frequency of Responses: On occasion.

Total Burden Hours: 13,226.

Ruth Brown,
Departmental Information Collection Clearance Officer.

[FR Doc. 2018-23525 Filed 10-26-18; 8:45 am]

BILLING CODE 3411-15-P